DEPARTMENT OF COMMERCE

National Oceanic and Atmospheric Administration

RIN 0648-XE36

Taking of Marine Incidental to Specified Activities; Taking Marine Mammals Incidental to Power Plant Operations in Central and Southern California

AGENCY: National Marine Fisheries Service (NMFS), National Oceanic and Atmospheric Administration (NOAA), Commerce.

ACTION: Notice; receipt of applications for letters of authorization; request for comments and information.

SUMMARY: NMFS has received applications for take authorizations from 13 power generating stations located on the coast of central and southern California to take small numbers of marine mammals by Level A harassment and mortalities incidental to routine power plant operations for the duration of five years from the date when the authorizations are issued. Pursuant to the Marine Mammal Protection Act (MMPA), NMFS is announcing our receipt of these requests for the development and implementation of regulations governing the incidental taking of marine mammals and inviting information, suggestions, and comments on these applications.

DATES: Comments and information must be received no later than March 21, 2008.

ADDRESSES: Comments on the applications should be addressed to P. Michael Payne, Chief, Permits, Conservation and Education Division, Office of Protected Resources, National Marine Fisheries Service, 1315 East-West Highway, Silver Spring, MD 20910-3225, or by telephoning one of the contacts listed here (see FOR FURTHER INFORMATION CONTACT). The mailbox address for providing email comments is PR1.0648-EX36@noaa.gov. Comments sent via email, including all attachments, must not exceed a 10-megabyte file size. Copies of the applications and other supporting material may be obtained by writing to this address or by telephoning the first contact person listed here and is also available at: http://www.nmfs.noaa.gov/pr/permits/incidental.htm.

FOR FURTHER INFORMATION CONTACT: Daniel Lawson, 562-980-3209, or Lindsey Waller, 562-980-3230, NMFS Southwest Regional Office.

SUPPLEMENTARY INFORMATION:

Background

Section 101(a)(5)(A) of the MMPA (16 U.S.C. 1361 et seq.) directs the Secretary of Commerce (Secretary) to allow, upon request, the incidental, but not intentional, taking of marine mammals by U.S. citizens who engage in a specific activity (other than commercial fishing) within a specified geographical region if certain findings are made and regulations issued.

Permission may be granted for periods of 5 years or less if the Secretary finds that the taking will have a negligible impact on the species or stock(s), will not have an unmitigable adverse impact on the availability of the species or stock(s) for certain subsistence uses, and if the permissible methods of taking and requirements pertaining to the mitigation, monitoring, and reporting of such taking are set forth.

NMFS has defined “negligible impact” in 50 CFR 216.103 as:

an impact resulting from the specified activity that cannot be reasonably expected to, and is not reasonably likely to, adversely affect the species or stock through effects on annual rates of recruitment or survival.

Except for certain categories of activities not pertinent here, the MMPA defines “harassment” in 16 U.S.C. 1362(18)(A) as:

any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Summary of Request

Incidental live and lethal takings of marine mammals, including California sea lions (Zalophus californianus), harbor seals (Phoca vitulina), and northern elephant seals (Mirounga angustirostris) have occurred or have a reasonable chance to occur, and are expected to continue to occur as a result of the operation of circulating water systems (CWS) by the electrical power generation plants located on the coast of central and southern California described in the incidental take exemption permit applications. These CWS are an integral part of these power stations that provide continuous cooling water necessary for power generation and safety of the facility. The typical location of entrainment occurs as water is taken into the plant via submerged structures or canals. Intake velocities may be strong enough to pull live animals into the plant, particularly if they are actively seeking prey in the vicinity of intake structures. Confinement within intake plumbing could lead to confusion and panic, especially for young, immature animals. If the animal is unable to escape, it could (1) drown or become fatally injured in transit between intake and large sedimentation basins within the plants known as forebays, (2) survive the transit and succumb in the forebay due to exhaustion, illness, or disease, or (3) survive the transit and be rescued by plant personnel using cages specially designed for such an activity. It is also likely that previously dead animals may end up entrained as well.

The following is a list and brief description of the history and basic operational design of the 13 power generation stations applying for a incidental take authorization.

Redondo Beach Generating Station (RBGS)

RBGS is a 1,310-megawatt (MW) facility owned by the AES Corporation (1998) and operated by the Southern California Edison Company. The Redondo Beach plant is located on the southern California coast in the city of Redondo Beach and consists of eight fossil-fueled steam-electric generating units. There are three intake structures which provide cooling water to the eight units. In 1987, four of the units and one of the intake structures were taken offline. The two remaining intakes supply Units 5 and 6 and Units 7 and 8, respectively, and draw in approximately 176,000 468,000 gallons of sea water per minute (gpm).

Based on previous take information between 1991 and 2006, it is estimated that on average, approximately one harbor seal and less than one California sea lion could be taken lethally, and one seal and less than one sea lion could be taken alive (i.e., Level A harassment) annually.

Huntington Beach Generating Station (HBGS)

HBGS is a nominal 900-MW facility owned by the AES Corporation (1998). The Huntington Beach plant is located on the southern California coast in the city of Huntington Beach, and consists of four fossil-fueled steam-electric generating units. A single intake supplies cooling water to all units. The maximum design flow through the intake is 352,000 gpm.

Based on previous take information between 1991 and 2006, it is estimated that on average, less than one harbor seal and California sea lion could be taken lethally, and less than one seal and sea lion could be taken alive (i.e., Level A harassment) per year.

Moss Landing Power Plant (MLPP)

The MLPP is a 2,590-MW facility owned and operated by Dynegy Moss Landing LLC (2007) located on the eastern shoreline of Moss Landing Harbor in Monterey County, California, about 177 km south of San Francisco. Moss Landing Harbor is located approximately midway between the cities of Santa Cruz and Monterey and is open to Monterey Bay. The MLPP has two separate intake structures in Moss Landing Harbor for withdrawal of cooling water that is necessary to remove excess heat from the power generating process. The intake that services the newly operational Units 1 and 2 (2002) was modernized from its original configuration after the original Units 1 through 5 were retired (1995). A second intake structure services operating Units 6 and 7. The total flow of cooling water is approximately 850,000 gpm.

The California Stranding Network database indicates that there were 2 live and 2 dead California sea lions, and 2 dead harbor seals entrained at the facility between 1982 and 2006 due to operation of the cooling water system at MLPP. Beside this data, there is minimal risk of such takings occurring in the future.

Morro Bay Power Plant (MBPP)

The MBPP is a 1,030-MW facility owned and operated by Dynegy Morro Bay LLC (2007), and located within the city of Morro Bay, San Luis Obispo County, California, near the eastern shore of Morro Bay Harbor. The plant site is bordered on the west by Embarcadero Road and on the east by Highway 1. The CWS for the plant consists of an intake structure which draws water from Morro Bay which provides cooling water to the four existing units. MBPP is proposed for modernization involving the replacement of the existing four steam-electric generation units (Units 1 through 4) with two state-of-the-art combined cycle systems composed of two gas turbines and a steam turbine each. The modernized facility will have a smaller physical footprint, will utilize substantially less cooling water, and will produce more electricity. Final approval may come in late 2008. Combined cycle units that will be operational in the future (pending modernization) will receive cooling water from this intake as well. The current capacity of the intake is 464,000 gpm, which would be reduced to 330,000 gpm following modernization.

No incidental lethal or injurious takings of marine mammals have been recorded in the past due to operation of the cooling water system at MBPP. Accordingly, there is minimal risk of such takings occurring in the future.

South Bay Power Plant (SBPP)

SBPP is a 707-MW facility owned and operated by Dynegy South Bay LLC (2007) located within the City of Chula Vista, San Diego County, California on the extreme southeastern end of San Diego Bay. The plant consists of four steam-powered generating units that are cooled by seawater taken in by the plant's cooling water pumps, and an air-cooled 20 MW gas turbine generator which does not use cooling water. The future status of SBPP is uncertain. There were plans to decommission the existing plant in 2010 and to replace it with a new plant near the same site. However, licensing and design of the new replacement plant are pending site selection and approval. The intake structures for the CWS draws up to 682 million gallons of water a day, or about 473,600 gpm, from San Diego Bay. Water is drawn into a shared intake structure for Units 1 and 2, and individual cooling intake structures for Units 3 and 4.

No incidental lethal or injurious takings of marine mammals have been recorded in the past due to operation of the cooling water system at SBPP; accordingly there is minimal risk of such takings occurring in the future.

Scattergood Generating Station (SGS)

SGS is an 830-MW facility owned by the City of Los Angeles and operated by the L.A. Department of Water and Power. SGS is located in the City of Los Angeles near the western border of the California coastal town of El Segundo, which is located to the south of Marina Del Ray and the north of Redondo Beach in Los Angeles County. SGS is a three-unit gas-fueled steam-electric generating facility incorporating eight circulating water pumps in its once-through CWS. A single cooling water intake structure is shared by all units. Maximum combined flow for all units is approximately 495 million gallons per day, or about 343,750 gpm.

A recorded total of 69 California sea lions were entrained by the generating station between 1989 and 2006, an average of four sea lions per year. Fifty-five of those were lethally taken and fourteen survived. Take rates have ranged from zero to nine per year. During the same period, two live and three dead harbor seals were entrained by the SGS CWS.

Long Beach Generating Station (LBGS)

LBGS is a 265-MW electric generating facility owned and operated by Long Beach Generation LLC, and indirect subsidiary of NRG Energy, Inc. The facility is located in western Los Angeles County, situated in the City of Long Beach along the coast of the Pacific Ocean. The power plant is bounded on the west and south by the Port of Long Beach and on the north by the City of Long Beach. LBGS was previously rated at 577 MW from nine generating units in a configuration that had been operated from 1977 to 2005, when the facility was shutdown. In 2007, LBGS was re-powered by refurbishing Units 1-4 into simple cycle gas turbine generators with air-cooled condensers. The refurbished LBGS no longer requires the seawater cooling water system (CWS). Units 5 through 9 remain retired in their previous configuration. The cooling water intake structure, consisting of a single forebay area within the Cerritos Channel in the Port of Long Beach and two intake pipes, and the single outfall tunnel were retired in 2007 by plugging the respective tunnels with concrete at the levee on the LBGS property. When previously operated, approximately 181,100 gpm were drawn through the intake during normal operations.

No marine mammals have been entrained at or found in or near the grounds of LBGS since 1977. Based on this environmental baseline, future incidental takes of less than one harbor seal and less than one California sea lion per year are anticipated.

El Segundo Generating Station (ESGS)

ESGS is a 1,020-MW facility located in the City of El Segundo, owned and operated by El Segundo Power LLC (indirect NRG subsidiary) (1998). The ESGS has been in operation since 1955 and utilizes two intake structures (individual structures for Units 1 and 2 and for Units 3 and 4) as part of the facility's once through cooling system. The intake structures consist of two pipes that extend offshore into Santa Monica Bay. Approximately 420,000 gpm are drawn through the intake system. A proposed modification is under review by the California Energy Commission which would eventually eliminate the use of one of the two intake structures.

Between 1978 and 2006, five harbor seals have been entrained at the ESGS, three of which were released unharmed. Between 1979 and 2006, a total of eleven California sea lions were entrained at or near ESGS, with eight mortalities. Based on this information, incidental takes of less than one harbor seal and less than one California sea lion per year are anticipated.

Encina Power Station (EPS)

EPS is a 965-MW facility located in western San Diego County, situated in the City of Carlsbad along the east coast of the Pacific Ocean. The power plant is bounded on the west by the Pacific Ocean, on the north by Agua Hedionda Lagoon, and on the south by the City of Carlsbad. EPS is owned by Cabrillo Power I LLC, an indirect subsidiary of NRG (2006). EPS began operation in 1954. The intake structure, serving all 5 steam powered units, is located at the south end of Agua Hedionda Lagoon. The maximum flow design of the CWS is 595,340 gpm. Proposed plans have been submitted to the California Energy Commission for additional air-cooled power generation to be located on site. As part of these plans, 3 of the current units would be retired, and a substantial decrease in cooling water would be required for plant operation.

One harbor seal was entrained at EPS in 2005. Nine California sea lions have been entrained at or found near EPS since 1978. Of the nine sea lions, eight were dead, although the evidence suggests that most of the animals were injured outside of the plant facilities and entered Aqua Hedionda Lagoon thereafter, such that injuries do not appear to be directly associated with plant operations. Based on this information, incidental takes of less than one harbor seal and less than one California sea lion per year are anticipated.

Reliant Energy Mandalay Generating Station (REMGS)

REMGS is a 577-MW facility owned and operated by Reliant Energy. REMGS is located on the southern California coast approximately 4.8 km west of the city of Oxnard. The plant consists of two steam-electric generating units, each rated at 215 MW, and one gas turbine unit rated at 147 MW. Ocean water for cooling purposes is supplied via a single cooling water system. Cooling water is drawn into the plant through Edison Canal, which originates approximately 4.2 km away at the northern end of Channel Islands Harbor in Oxnard, California. The capacity of the CWS is 176,000 gpm.

Two live and four dead California sea lions have been removed from Edison Canal since 1977. No harbor seals have been entrained by the REMGS CWS since 1977. Based on the information, incidental takes of less than one harbor seal and less than one California sea lion per year are anticipated.

Reliant Energy Ormond Beach Generating Station (OBGS)

OBGS is a two-unit, 1,500- MW gas-fueled, steam-electric generating facility located near the California coast town of Oxnard, southeast of the entrance to Port Hueneme. The plant is approximately 48 km south of Santa Barbara, and 97 km north of Los Angeles. The plant is owned by Reliant Energy and is currently being operated by Southern California Edison Company personnel. Ocean water for cooling purposes is supplied via a single cooling water system. The facility consists of two gas-fueled steam-electric units fed with cooling water via the CWS. Four circulating water pumps operate with a total capacity of 476,000 gpm.

Based on previous take information between 1991 and 2006, it is estimated that on average, less than one harbor seal and approximately one California sea lion could be taken lethally, and less than one harbor seal and sea lion could be taken alive per year. One dead northern elephant seal was entrained in 1998.

Diablo Canyon Power Plant (DCPP)

DCPP is owned and operated by Pacific Gas and Electric Company (PG&E), and is a nuclear-powered, steam-turbine power plant with a rated output of 2,200 MW of electricity. Commercial operation of Unit 1 began in May 1985, and Unit 2 in March 1986. DCPP is located on a coastal terrace midway between the communities of Morro Bay and Avila Beach on the central California coast. The local coast is a steep and rugged rocky shoreline that is exposed to heavy wave activity. Except for DCPP, the coast is largely uninhabited and undeveloped along the 16 km between the cities of Morro Bay and Avila Beach. The power plant draws in seawater from a constructed intake cove through a cooling water system to provide cooling for power plant operations. Four circulating water pumps combine to produce a cooling water flow of 1,704,000 gpm.

The California Stranding Network database indicates that two dead California sea lions have been entrained at the DCPP facility between 1982 and 2006. Less than 1 sea lion lethal take per year is expected.

San Onofre Nuclear Generating Station (SONGS)

SONGS is 2,300-MW facility owned in part by Southern California Edison (SCE), San Diego Gas and Electric Company, the City of Anaheim, and the City of Riverside, and is operated by SCE. It is located near the California coastal town of San Clemente, approximately 70 km north of San Diego and 95 km south of Los Angeles. Camp Pendleton U.S. Marine Corps Base adjoins the facility in northern San Diego County. The facility is consists of three units, although Unit 1 was taken offline in 1992. Ocean cooling water is drawn into two offshore structures. The combine intake flow is 1,660,000 gpm.

Based on previous take information between 1991 and 2006, it is estimated that on average approximately six harbor seals and fourteen California sea lions could be taken lethally, and approximately eleven seals and five sea lions could be taken alive per year.

Information Solicited

Interested persons may submit information, suggestions, and comments concerning the requests by the aforementioned 13 power stations in central and southern California (see ADDRESSES). All information, suggestions, and comments related to these requests and NMFS' development and implementation of regulations governing the incidental taking of marine mammals by power plant operations in central and southern California will be considered by NMFS, if appropriate, in developing the most effective regulations governing the issuance of letters of authorization.

Dated: February 12, 2008.
James H. Lecky,
Director, Office of Protected Resources, National Marine Fisheries Service.

[FR Doc. E8-3146 Filed 2-19-08; 8:45 am]

BILLING CODE 3510-22-S